DEPARTMENT OF TRANSPORTATION

Office of the Secretary

[Docket No. DOT-OST-2024-0055]

Transforming Transportation Advisory Committee; Public Meeting

AGENCY: Office of the Secretary (OST), Department of Transportation (DOT).

ACTION: Notice of public meeting.

SUMMARY: The Office of the Secretary of Transportation (OST) announces a public meeting of the Transforming Transportation Advisory Committee (TTAC) on Thursday, June 13, 2024. This notice announces the date, time, and location of the meeting, which will be virtually open to the public. The purpose of the TTAC is to provide information, advice, and recommendations to the Secretary on matters relating to transportation innovations.

DATES: This meeting will be held on Thursday, June 13, 2024 from 11:30 a.m. to 3:30 p.m. Eastern Time (ET). A link allowing for live viewing of the meeting will be posted to https://www.transportation.gov/ttac ahead of the meeting start time.

ADDRESSES: The TTAC members will be meeting virtually via Zoom. The public may attend the meeting virtually, with information available on the USDOT TTAC website (https://www.transportation.gov/ttac) at least one week in advance of the meeting date.

FOR FURTHER INFORMATION CONTACT: TTAC Designated Federal Officer, c/o Vincent White, Jr., Senior Advisor for Innovation, Office of the Secretary, ttac@dot.gov, (202) 770-8887.

SUPPLEMENTARY INFORMATION:

I. Background

The U.S. Secretary of Transportation (Secretary) established TTAC as a Federal Advisory Committee in accordance with the Federal Advisory Committee Act (Pub. L. 92-463, 5 U.S.C. ch. 10) to provide information, advice, and recommendations to the Secretary on matters relating to transportation innovations. TTAC is tasked with advice and recommendations to the Secretary about needs, objectives, plans, and approaches for transportation innovations.

Description of Duties

TTAC will undertake only tasks assigned to it by the Secretary of Transportation or designee and provide direct, first-hand information, advice, and recommendations by meeting and exchanging ideas on the tasks assigned. In addition, TTAC will respond to ad-hoc informational requests from OST.

II. Agenda

At the meeting, the agenda will cover the following topics:

1. Call to Order, Official Statement of the Designated Federal Officer, Meeting Logistics

2. Opening Remarks

3. Subcommittee Updates

4. Potential New Topics

5. Committee Business

6. Recap of Meeting Progress and Review of Next Steps

III. Public Participation

The meeting will be open to the public via livestream. Members of the public who wish to observe the virtual meeting can access the livestream accessible on the following website: https://www.transportation.gov/ttac.

We are committed to providing equal access to this meeting for all participants. Sign language interpretation and live-captioning will be available during the livestream. If you need alternative formats or services because of a disability, such as interpretation or other ancillary aids, or if you require translation into a language other than English, please contact the person listed in the FOR FURTHER INFORMATION CONTACT section of this notice no later than Thursday, June 6, 2024.

Members of the public may also submit written materials, questions, and comments to the Committee in advance to the individual listed in the FOR FURTHER INFORMATION CONTACT section of this notice no later than Thursday, June 6, 2024.

All advance submissions will be reviewed by the Designated Federal Officer. If approved, advance submissions shall be circulated to the TTAC members for review prior to the meeting. All advance submissions will become part of the official record of the meeting.

Authority: The Committee is a discretionary Committee under the authority of the U.S. Department of Transportation (DOT), established in accordance with the provisions of the Federal Advisory Committee Act (FACA), as amended, 5 U.S.C. ch. 2.

Issued in Washington, DC, on May 23, 2024.
Vincent Gerard White Jr.,
Senior Advisor for Innovation.

[FR Doc. 2024-11782 Filed 5-28-24; 8:45 am]

BILLING CODE 4910-9X-P